DEPARTMENT OF ENERGY

Federal Energy Regulatory Commission

Sunshine Act Meeting Notice

The following notice of meeting is published pursuant to section 3(a) of the government in the Sunshine Act (Pub. L. No. 94-409), 5 U.S.C. 552b:

AGENCY HOLDING MEETING: Federal Energy Regulatory Commission.

DATE AND TIME: December 20, 2012 10:00 a.m.

PLACE: Room 2C, 888 First Street NE., Washington, DC 20426.

STATUS: Open.

MATTERS TO BE CONSIDERED: Agenda

* Note—Items listed on the agenda may be deleted without further notice.

CONTACT PERSON FOR MORE INFORMATION: Kimberly D. Bose, Secretary, Telephone (202) 502-8400.

For a recorded message listing items, struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

988th—Meeting

Regular Meeting December 20, 2012, 10:00 a.m.

Item No. | Docket No. | Company
Administrative
A-1 | AD02-1-000 | Agency Business Matters.
A-2 | AD02-7-000 | Customer Matters, Reliability, Security and Market Operations.
Electric
E-1 | RM10-11-001 | Integration of Variable Energy Resources.
E-2 | EL11-44-001 | Iberdrola Renewables, Inc., PacificCorp, NextEra Energy Resources, LLC, Invenergy Wind North America LLC, and Horizon Wind Energy LLC v. Bonneville Power Administration.
E-3 | EL11-44-002 | Iberdrola Renewables, Inc., PacifiCorp, NextEra Energy Resources, LLC, Invenergy Wind North America LLC, and Horizon Wind Energy LLC v. Bonneville Power Administration.
E-4 | RM11-12-000 | Availability of E-Tag Information to Commission Staff.
E-5 | RM12-6-000 RM12-7-000 | Revisions to Electric Reliability Organization Definition of Bulk Electric System and Rules of Procedure.
E-6 | OMITTED |
E-7 | RR12-8-000 | North American Electric Reliability Corporation.
E-8 | NP11-238-001 | North American Electric Reliability Corporation.
E-9 | RM12-9-000 | Regional Reliability Standard PRC-006-SERC-01-Automatic Underfrequency Load Shedding Requirements.
E-10 | OMITTED |
E-11 | ER13-178-000 | Southwest Power Pool, Inc.
E-12 | ER13-207-000 | City of Colton, California.
E-13 | ER13-168-000 | California Independent System Operator Corporation.
E-14 | ER13-218-000 | California Independent System Operator Corporation.
E-15 | ER13-219-000 | California Independent System Operator Corporation.
E-16 | ER13-49-000 | Valley Electric Association, Inc.
E-17 | EC12-119-000 | FirstEnergy Generation Corp. and American Transmission System, Incorporated.
E-18 | OMITTED |
E-19 | OMITTED |
E-20 | OMITTED |
E-21 | OMITTED |
E-22 | EL12-109-000 | Avalon Wind, LLC, Avalon Wind 2, LLC, Catalina Solar, LLC, Catalina Solar 2, LLC, Pacific Wind Lessee, LLC, Pacific Wind 2, LLC, Valentine Solar, LLC, and EDF Renewables Development, Inc.
E-23 | OMITTED |
Gas
G-1 | RP11-2061-002, RP11-2061-003 | Northern Natural Gas Company.
G-2 | RP12-814-000 | Gulf Crossing Pipeline Company LLC.
G-3 | RP12-820-000 | Texas Gas Transmission, LLC.
G-4 | RP12-813-000 | Gulf South Pipeline Company, LP.
G-5 | OR12-27-000 | Enbridge Pipelines (Southern Lights) LLC.
Hydro
H-1 | P-13213-004 P-13214-004 | Lock 14 Hydro Partners, LLC. Lock 12 Hydro Partners, LLC.
H-2 | P-14354-001 | Utah Independent Power, Inc.
H-3 | HB81-09-2-002 | Hudson River-Black River Regulating District, Erie Boulevard Hydropower L.P., Curtis/Palmer Hydroelectric Co., South Glens Falls Limited Partnership, et al., Northern Electric Power Co., et al., Fort Miller Associates, Stillwater Hydro Associates, New York State Electric & Gas Corp., Albany Engineering Corporation, and Green Island Power Co.
Certificates
C-1 | RM12-11-000 | Revisions to the Auxiliary Installations, Replacement Facilities, and Siting and Maintenance Regulations.
C-2 | CP12-25-000 | Brian Hamilton v. El Paso Natural Gas Company.
C-3 | CP12-72-000 | Dominion Transmission, Inc.

Dated: December 13, 2012.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2012-30544 Filed 12-14-12; 4:15 pm]

BILLING CODE 6717-01-P